DEPARTMENT OF TRANSPORTATION

Coast Guard

[USCG-2000-7117]

Notice of Public Meeting and Request for Comments on Proposed Changes to the Oil Spill Removal Organization (OSRO) Classification Program

AGENCY: Coast Guard, DOT.

ACTION: Notice of meeting and request for comments.

SUMMARY: The Coast Guard is soliciting comments on proposed changes to the Oil Spill Removal Organization (OSRO) Classification program. The Coast Guard has developed proposed changes to the OSRO Classification program in a document entitled: Coast Guard Program for Classifying Oil Spill Removal Organizations. This notice also announces a public meeting to discuss the proposed document.

DATES: The meeting in Arlington, VA will be on May 4, 2000, from 9 a.m. to 5 p.m. The meeting will convene at 9 a.m., and will conclude before 5 p.m. if we finish early. Comments and related material must reach the Docket Management Facility on or before May 19, 2000.

ADDRESSES: The meeting in Arlington, VA will be held at the Hilton Crystal City at National Airport Hotel, 2399 Jefferson Davis Highway, Arlington, VA 22202, 703-418-6800.

To make sure your comments and related materials are not entered in the docket more than once, please submit them by only one of the following means:

(1) By mail to the Docket Management Facility (USCG-2000-7117), U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket on the Internet at http://dms.dot.gov.

FOR FURTHER INFORMATION CONTACT: For questions on this meeting notice, or persons interested in presenting information at the workshop, please contact Lieutenant Commander Roger Laferriere, Office of Response, Response Operations Division (G-MOR-3), telephone 202-267-0448, fax 202-267-4085, or email Rlaferrierre@comdt.uscg.mil.

For questions on viewing or submitting material to the docket, call Dorothy Walker, Chief, Dockets, Department of Transportation, telephone 202-366-9329.

SUPPLEMENTARY INFORMATION:

Agenda of Meeting

Proposed changes to the Coast Guard Program for Classifying Oil Spill Removal Organizations. The agenda includes the following:

(1) Addressing OSROs with different capabilities having the same classification.

(2) Increasing measurement of OSRO systems capability.

(3) Development of realistic response times.

(4) Addressing personnel requirements.

(5) Increasing alignment with the regulations.

(6) Strengthening the verification program.

(7) Making the guidelines more user friendly.

(8) Clarifying planner and OSRO responsibilities.

(9) Improving fixed storage counting.

(10) Validating OSRO exercise participation.

A copy of the document entitled, Coast Guard Program for Classifying Oil Spill Removal Organizations can be obtained through the National Strike Force Coordination Center at 252-331-6000, extension 3034, or at the Vessel Response Plan program internet site (http: www.uscg.mil/vrp), or at the internet site for the public docket for this notice, http://dms.dot.gov.

Request for Comments

We encourage you to participate by submitting comments and related material. If you do so, please include your name and address, identify the docket number [USCG-2000-7117], indicate the specific section of the Coast Guard Program for Classifying Oil Spill Removal Organizations to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change the document in view of them.

Public Meeting

The purpose of the meeting is to discuss the proposed changes to the OSRO Classification program guidelines as described in Coast Guard Program for Classifying Oil Spill Removal Organizations. Also, the Coast Guard will discuss many issues raised during the last five years of the OSRO Classification program. Federal, state, and local agencies, industry, oil spill removal organizations, environmental groups and the public are encouraged to participate and provide written or oral comments on the document.

Background

The primary purpose of the OSRO program is to provide a systematic way to classify OSROs. Once classified, planholders can list them by name and classification as an alternative to listing extensive resources in their tank vessel and facility plans [Title 33 Code of Federal Regulations, sections 154.1035(e)(3)(iii) and 155.1035(i)(8)]. OSROs and plan holders participate and use the classification program on a strictly voluntary basis. Since their inception, five years ago, the OSRO Classification Guidelines have undergone subtle changes to increase alignment with the regulatory requirements. Thirteen separate newsletters were published announcing these changes, eight of which were incorporated into the last revision of the Guidelines in 1997. Since 1997, the guidelines have remained stable in form, but program managers and stakeholders identified more shortfalls, where the guidelines did not meet the regulatory requirements. OSRO classifications were intended strictly as a response “planning” tool that would allow plan writers to identify OSROs that could meet their response needs, as outlined by the regulations. In order to ensure, at a minimum, that an OSRO classification represents as accurately as possible an OSRO's response capabilities, further changes to the guidelines were needed. The proposed changes are designed to ensure that the Coast Guard classification program provides a more accurate representation of an OSRO's response capability and better addresses the regulatory requirements.

Information on Services for Individuals with Disabilities

For information on facilities or services for individuals with disabilities, or to request special assistance at the meeting, contact Lieutenant Commander Roger R. Laferriere, Office of Response, Response Operations Division (G-MOR-3), Coast Guard, telephone 202-267-0448, e-mail RLaferriere@comdt.uscg.mil as soon as possible.

Dated: March 29, 2000.
Joseph J. Angelo,
Director of Standards, Marine Safety and Environmental Protection.

[FR Doc. 00-8217 Filed 4-3-00; 8:45 am]

BILLING CODE 4910-15-U